DEPARTMENT OF THE TREASURY

Fiscal Service

Surety Companies Acceptable on Federal Bonds: Amendment—Safeco Insurance Company of America

AGENCY: Bureau of the Fiscal Service, Fiscal Service, Department of the Treasury.

ACTION: Notice.

SUMMARY: This is Supplement No. 10 to the Treasury Department Circular 570, 2012 Revision, published July 2, 2012, at 77 FR 39322.

FOR FURTHER INFORMATION CONTACT: Surety Bond Branch at (202) 874-6850.

SUPPLEMENTARY INFORMATION: The underwriting limitation for the following company has been amended:

Safeco Insurance Company of America (NAIC #24740), which was listed in the Treasury Department Circular 570, published on July 2, 2012, is hereby amended to read $87,081,000.

Federal bond-approving officers should annotate their reference copies of the Treasury Department Circular 570 (“Circular”), 2012 Revision, to reflect this change.

The Circular may be viewed and downloaded through the Internet at www.fms.treas.gov/c570.

Questions concerning this notice may be directed to the U.S. Department of the Treasury, Bureau of the Fiscal Service, Financial Accounting and Services Division, Surety Bond Branch, 3700 East-West Highway, Room 6F01, Hyattsville, MD 20782.

Dated: June 3, 2013.
Kevin McIntyre,
Acting Director, Financial Accounting and Services Division.

[FR Doc. 2013-13916 Filed 6-11-13; 8:45 am]

BILLING CODE 4810-35-M